INTERNATIONAL TRADE COMMISSION

[Investigation Nos. 701-TA-487 and 731-TA-1197-1198 (Preliminary)]

Steel Wire Garment Hangers From Taiwan And Vietnam

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured by reason of imports from Taiwan and Vietnam of steel wire garment hangers, provided for in subheading 7326.20.00 of the Harmonized Tariff Schedule of the United States, that are alleged to be sold in the United States at less than fair value (LTFV) and steel wire garment hangers from Vietnam that are allegedly subsidized by the Government of Vietnam.

¹ The record is defined in sec. 207.2(f) of the Commission's Rules of Practice and Procedure (19 CFR 207.2(f)).

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On December 29, 2011, a petition was filed with the Commission and Commerce by M&B Metal Products Company, Inc., Leeds, AL; Innovation Fabrication LLC/Indy Hanger, Indianapolis, IN; and US Hanger Company, LLC, Gardena, CA, alleging that an industry in the United States is materially injured or threatened with material injury by reason of LTFV imports of steel wire garment hangers from Taiwan and Vietnam and subsidized imports of steel wire garment hangers from Vietnam. Accordingly, effective December 29, 2011, the Commission instituted countervailing duty investigation No. 701-TA-487 and antidumping duty investigation Nos. 731-TA-1197-1198 (Preliminary).

Notice of the institution of the Commission's investigations and of a public conference to be held in connection therewith was given by posting copies of the notice in the Office of the Secretary, U.S. International Trade Commission, Washington, DC, and by publishing the notice in the Federal Register of January 6, 2012 (77 FR 806). The conference was held in Washington, DC, on January 20, 2012, and all persons who requested the opportunity were permitted to appear in person or by counsel.

The Commission transmitted its determinations in these investigations to the Secretary of Commerce on February 13, 2012. The views of the Commission are contained in USITC Publication 4305 (February 2012), entitled Steel Wire Garment Hangers from Taiwan and Vietnam: Investigation Nos. 701-TA-487 and 731-TA-1197-1198 (Preliminary).

Issued: February 13, 2012.
By order of the Commission.
James R. Holbein,
Secretary to the Commission.

[FR Doc. 2012-3731 Filed 2-16-12; 8:45 am]

BILLING CODE 7020-02-P